DEPARTMENT OF THE INTERIOR

National Park Service

Non-Native Deer Management Plan, Point Reyes National Seashore, Marin County, CA; Notice of Scoping

SUMMARY: Notice is hereby given, in accordance with the provisions of the National Environmental Policy Act (42 U.S.C. 4321 et seq.) that public scoping has been initiated for a conservation planning and environmental impact analysis process for preparing a non-native deer management plan for Point Reyes National Seashore. The purpose of the scoping process is to elicit early public comment regarding issues and concerns, a suitable range of alternatives and appropriate mitigating measures, and the nature and extent of potential environmental impacts that should be addressed.

Background: Point Reyes National Seashore is a unit of the National Park System. It was established by Congress on September 13, 1962 “to save and preserve, for the purpose of public recreation, benefit, and inspiration, a portion of the diminishing seashore of the United States that remains undeveloped” (Pub. L. 87-657). Fallow deer (Dama dama) and axis deer (Axis axis) from the San Francisco Zoo were introduced to Point Reyes in the mid 1940s prior to the establishment of the National Seashore. They are native to Mediterranean Europe and southern Asia, respectively. Their populations were controlled by hunting until commencement of park management operations by the National Park Service in 1971. Subsequently, national park rangers culled non-native deer in an attempt to control their populations. This culling decreased after 1995, and numbers of the non-native deer have apparently increased. The native cervid fauna at Point Reyes comprises two species, black-tailed deer (Odocoileus hemionus columbianus) and tule elk (Cervus elaphus nannodes). The latter was extirpated in the 19th Century, reintroduced to the area in 1978, and currently is the subject of a program to establish a free-ranging herd within designated wilderness area in the park.

Point Reyes National Seashore has never formulated or published a management plan for the non-native deer within its boundaries. Large population sizes of the two species of non-native deer, the ongoing management program to re-establish and favor the two native deer species, and potential adverse effect of forage competition with and disease transmission from the non-native to the native deer necessitate the development and implementation of a non-native deer management plan for Point Reyes National Seashore.

Comment Process: As noted, the National Park Service will undertake an environmental analysis effort to address issues and alternatives for non-native deer management at Point Reyes National Seashore. At this time, it has not been determined whether an Environmental Assessment or Environmental Impact Statement will be prepared; however, this scoping process will aid in the preparation of either document.

As the first step in this undertaking, a public scoping and information meeting will be held May 4, 2002 at the Dance Palace in Point Reyes Station. For those unable to attend the meeting, a scoping document will be available through the park. At this time its anticipated that the primary topics to be addressed at the public meeting include: background information on the non-native deer management program; a review of relevant policy and law affecting the non-native deer management program; an assessment of current non-native deer management needs; and the identification of issues and concerns, alternative courses of action related to non-native deer management in the park, and potential impacts and appropriate mitigation strategies. All interested individuals, organizations, and agencies are invited to provide comments or suggestions. Written comments regarding the exotic deer management program must be postmarked no later than July 5, 2002. To provide comments, inquire about the scoping meeting, or to request a copy of the scoping background material and provide comments, please contact: Superintendent, Point Reyes National Seashore; Attn: Exotic Deer Management Plan; Point Reyes Station, California 94956; telephone (415) 464-5102.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision: The draft non-native deer management plan and environmental document are expected to be available for public review in the late fall of 2002. At this time it is anticipated that the final plan and environmental document are to be completed in Spring 2003. Following the conclusion of the scoping period the determination of whether to prepare an Environmental Assessment or Environmental Impact Statement will be made by the Superintendent, Point Reyes National Seashore. Subsequently, the official responsible for approval of either a Finding of No Significant Impact or a Record of Decision is the Regional Director, Pacific West Region; and then the Superintendent, Point Reyes National Seashore would be responsible for implementing the approved management actions.

Dated: January 14, 2002.
John J. Reynolds,
Regional Director, Pacific West Region.

[FR Doc. 02-8698 Filed 4-9-02; 8:45 am]

BILLING CODE 4310-70-P